DEPARTMENT OF HOMELAND SECURITY

Coast Guard

[Docket No. USCG-2016-0074]

Recreational Boating Safety—Strategic Plan of the National Recreational Boating Safety Program 2017-2021

AGENCY: Coast Guard, DHS.

ACTION: Notice of availability and request for comments.

SUMMARY: The Coast Guard requests public comments on its draft strategic plan of the National Recreational Boating Safety Program for 2017-2021. This plan is under development to coordinate efforts of stakeholders to prevent future deaths and injuries of recreational boaters.

DATES: Comments must be submitted to the online docket via http://www.regulations.gov, or reach the Docket Management Facility, on or before April 20, 2016.

ADDRESSES: You may submit comments identified by docket number USCG-2016-0074 using the Federal eRulemaking Portal at http://www.regulations.gov. See the “Public Participation and Request for Comments” portion of the SUPPLEMENTARY INFORMATION section for further instructions on submitting comments.

FOR FURTHER INFORMATION CONTACT: For information about this document, email StrategicPlan2017-2021@uscg.mil

SUPPLEMENTARY INFORMATION:

Public Participation and Comments

We encourage you to submit comments and related data on this notice. Please include its docket number and explain each suggestion or recommendation you make. Although we do not plan to issue a new notice responding to the comments and data we receive, we may revise the draft plan based on that input.

Please submit your comments through the Federal eRulemaking Portal at http://www.regulations.gov. If your material cannot be submitted using http://www.regulations.gov, contact the address in the FOR FURTHER INFORMATION CONTACT section of this document for alternate instructions.

Both the draft plan and the final plan, along with any comments or data we receive from the public, will be available at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Discussion

Chapter 131 of Title 46, U.S. Code, requires the Secretary of Homeland Security to carry out a national recreational boating safety program and the Secretary has delegated that authority to the Coast Guard.¹ Each year, approximately 650 citizens die and thousands are injured in reportable recreational boating safety accidents. To coordinate efforts to prevent future deaths and injuries of recreational boaters, the Coast Guard is working with stakeholders of the recreational boating community to develop a strategic plan. This plan contains specific initiatives to increase life jacket wear rates, decrease boating under the influence, and increase boating knowledge and skills and other prevention efforts. The Coast Guard seeks public comment on this draft plan, specifically for policy actions and supporting data that may help prevent future deaths and injuries.

¹ DHS Delegation No. 0170.1(II)(92.i).

This notice is issued under authority of 5 U.S.C. 552(a).

Dated: March 8, 2016.
Verne B. Gifford,
Captain, Coast Guard, Director of Inspections and Compliance.

[FR Doc. 2016-06303 Filed 3-18-16; 8:45 am]

BILLING CODE 9110-04-P